DEPARTMENT OF STATE

[Public Notice: 12937]

Office of the Chief of Protocol; Gifts to Federal Employees From Foreign Government Sources Reported to Employing Agencies in Calendar Year 2024

All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2024 concerning gifts received from foreign government sources. The compilation includes reports of both tangible gifts and gifts of travel or travel expenses of more than minimal value, as defined in 5 U.S.C. 7432 and GSA regulations. For calendar year 2024 (January 1, 2024 through December 31, 2024), minimal value is $480.00.

Consistent with Title 22 of the Code of Federal Regulations Section 3.4, the report includes all reported gifts given on a single occasion when the aggregate value of those gifts exceeds minimal value. Also included are one gift from 2017, one gift from 2021, three gifts from 2022, and nineteen gifts from 2023. These latter gifts are being reported in this year's report for calendar year 2024 because the Office of the Chief of Protocol, Department of State, did not receive the relevant information at the time of reporting to include them in earlier reports. Agencies not listed in this report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Authority: Section 7342(f) of Title 5, United States Code, as added by Section 515(a)(1) of the Foreign Relations Authorization Act, Fiscal Year 1978 (Pub. L. 95-105, August 17, 1977, 91 Stat. 865).

Jason S. Evans,
Under Secretary for Management, U.S. Department of State.

Agency: The White House—Executive Office of the President
[Report of Tangible Gifts Furnished by the White House—Executive Office of the President]
Name and title of person accepting the gift on behalf of the U.S. Government | Gift. date of acceptance on behalf of the U.S. Government, estimated value, current disposition or location | Identity of foreign donor and government | Circumstances justifying acceptance
The Honorable Joseph R. Biden Jr., President of the United States | Bird Sculpture by iittalia Glass Factory Rec'd—3/16/2023. Est. Value—$520.00. Disposition—Transferred to NARA | His Excellency Sauli Niinistö, President of the Republic of Finland | Non-acceptance would cause embarrassment to donor and U.S. Government.
The Honorable Joseph R. Biden Jr., President of the United States | Framed Poster, Aircraft Fragment, Bilum Bag, “Birds of Paradise” Artwork, Shirt, Gold Pin. Rec'd—5/22/2023. Est. Value—$1,254.00. Disposition—Personally Retained (Aircraft Fragment), Transferred to NARA (Poster, Bag, Artwork, Shirt, Pin); Perishable items disposed of pursuant to USSS policies (Coffee) | His Excellency James Marape, Prime Minister of the Independent State of Papua New Guinea | Non-acceptance would cause embarrassment to donor and U.S.
The Honorable Joseph R. Biden Jr., President of the United States | Wood Chest, Scarf, Saffron with Jar, Wood Box for Tea. Rec'd—9/10/2023. Est. Value—$562.00. Disposition—Transferred to NARA (Chest, Scarf, Jar, and Box); Perishable items disposed of pursuant to USSS policies (Saffron and Tea) | His Excellency Narendra Modi, Prime Minister of the Republic of India | Non-acceptance would cause embarrassment to donor and U.S.
The Honorable Joseph R. Biden Jr., President of the United States | Portrait Painting of President Biden. Rec'd—9/13/2023. Est. Value—$950.00. Disposition—Transferred to NARA | His Excellency Pham Minh Chinh, Prime Minister of the Socialist Republic of Vietnam | Non-acceptance would cause embarrassment to donor and U.S.
The Honorable Joseph R. Biden Jr., President of the United States | Mont Blanc Notebook and Pen, Ceramic Platter, Ice Cream Scoop, 30-year-old Balsamic Vinegar, Nest Candle, Chess Set, Michael Aram Frame. Rec'd—1/22/2024. Est. Value—$1,337.52. Disposition—Transferred to NARA (Notebook and Pen, Platter, Ice Cream Scoop, Chess Set, and Frame); Perishable items disposed of pursuant to USSS policies (Vinegar and Candle) | His Majesty Sultan Haji Hassanal Bolkiah Mu'izzaddin Waddaulah and Yang Di-Pertuan of Negara Brunei Darussalam, Sultan of Brunei Darussalam | Non-acceptance would cause embarrassment to donor and U.S.
The Honorable Joseph R. Biden Jr., President of the United States | Yellow Decorative Vase. Rec'd—1/24/2024. Est. Value—$900.00. Disposition—Transferred to NARA | Embassy of the People's Republic of China | Non-acceptance would cause embarrassment to donor and U.S.
The Honorable Joseph R. Biden Jr., President of the United States | Commemorative Medallion, 2019 Boroli Barolo Brunella Wine, Le Tre Colonne Olive Oil, Buccellati Cufflinks. Rec'd—3/1/2024. Est. Value—$722.80. Disposition—Transferred to NARA (Medallion); Perishable items disposed of pursuant to USSS policies (Wine); Personally Retained (Cufflinks) | Her Excellency Giorgia Meloni, President of the Italian Republic | Non-acceptance would cause embarrassment to donor and U.S.
The Honorable Joseph R. Biden Jr., President of the United States | First Day Cover Envelope, Cooley Kickhams Gaelic Football Club Jersey, Engraved Cufflinks, Crystal Bowl. Rec'd—3/14/2024. Est. Value—$1,209.00. Disposition—Transferred to NARA | His Excellency Leo Varadkar, Taoiseach of Ireland | Non-acceptance would cause embarrassment to donor and U.S.
The Honorable Joseph R. Biden Jr., President of the United States | Kiyomizudo Temple and Shinobazu Pond in Veno Print. Rec'd—4/9/2024. Est. Value—$610.00. Disposition—Transferred to NARA | Ms. Yuriko Koike, Governor of Tokyo, Japan | Non-acceptance would cause embarrassment to donor and U.S.
The Honorable Joseph R. Biden Jr., President of the United States | President Marcos and President Biden Photograph. Rec'd—4/11/2024. Est. Value—$520.00. Disposition—Transferred to NARA | His Excellency Ferdinand Romualdez Marcos, Jr., President of the Republic of the Philippines | Non-acceptance would cause embarrassment to donor and U.S.
The Honorable Joseph R. Biden Jr., President of the United States | Winged Woman Sculpture, Acrylic Painting in Wooden Case. Rec'd—4/15/2024. Est. Value—$3,300.00. Disposition—Transferred to NARA | His Excellency Mohammed Shia' Al-Sudani, Prime Minister of the Republic of Iraq | Non-acceptance would cause embarrassment to donor and U.S.
The Honorable Joseph R. Biden Jr., President of the United States | Holy Water Font Artwork by Anna Martinková, Vaclaw Havel and Madeleine Albright Photograph by Oldrich Skacha. Rec'd—4/16/2024. Est. Value—$3,300.00. Disposition—Transferred to NARA | His Excellency Petr Fiala, Prime Minister of the Czech Republic | Non-acceptance would cause embarrassment to donor and U.S.
The Honorable Joseph R. Biden Jr., President of the United States | Two Jars of Royal Farms Wild Flowers Honey, Two Bottles of Royal Farms Premium Extra Virgin Olive Oil, Decorative Silver Metal Box. Rec'd—5/6/2024. Est. Value—$868.00. Disposition -Perishable items disposed of pursuant to USSS policies (Honey and Olive Oil); Transferred to NARA (Box) | His Majesty King Abdullah II ibn Al Hussein, King of the Hashemite Kingdom of Jordan | Non-acceptance would cause embarrassment to donor and U.S.
The Honorable Joseph R. Biden Jr., President of the United States | Officer Sword Replica, Romanian Commemorative Coin, Muscat Ottonel Wine by Jidvei. Rec'd—5/7/2024. Est. Value—645.00. Disposition—Transferred to NARA (Sword and Coin); Perishable items disposed of pursuant to USSS policies (Wine) | His Excellency Klaus Iohannis, President of Romania | Non-acceptance would cause embarrassment to donor and U.S.
The Honorable Joseph R. Biden Jr., President of the United States | Monogrammed Belt by Draghi. Rec'd—6/7/2024. Est. Value—$1,680.00. Disposition—Transferred to NARA | The Honorable Gerardo Werthein, Ambassador of the Argentine Republic to the United States | Non-acceptance would cause embarrassment to donor and U.S.
The Honorable Joseph R. Biden Jr., President of the United States | Notre Dame Fragment Sculpture, WWII Warship Ensign, “France Forever” Posters, Josephine Baker Painting by Raphaël Barontini, “MÉMOIRES DE GUERRE” by Charles de Gaulle Book Set, Normandy Landings Photograph by Robert Capa, Statue of Liberty Glass Replica Sculpture, “The Complete War Memoirs of Charles De Gaulle” Book. Rec'd—6/8/2024. Est. Value—$3,070.00. Disposition—Waiting to receive from USSS (Sculpture); Transferred to NARA (Wood Sculpture, Ensign, Photograph, Glass Sculpture, Posters, Painting, Book Set, and Book) | His Excellency Emmanuel Macron, President of the French Republic | Non-acceptance would cause embarrassment to donor and U.S.
The Honorable Joseph R. Biden Jr., President of the United States | Two Timor-Leste “Tais” Textiles. Rec'd—6/10/2024. Est. Value—$636.00. Disposition—Transferred to NARA | His Excellency Jose Luis Guterres, Ambassador of the Democratic Republic of Timor-Leste to the United States | Non-acceptance would cause embarrassment to donor and U.S.
The Honorable Joseph R. Biden Jr., President of the United States | Decorative Tea Set, Loose-Leaf Tea in Glass Jars. Rec'd—6/15/2024. Est. Value—$616.00. Disposition—Transferred to NARA (Tea Set and Glass Jars); Perishable items disposed of pursuant to USSS policies (Tea) | Mrs. Emine Erdogan, First Lady of the Republic of Turkey | Non-acceptance would cause embarrassment to donor and U.S.
The Honorable Joseph R. Biden Jr., President of the United States | “Bangjja-Yugi Soban” Table, Lacquered Tableware, Bojagi. Rec'd—7/9/2024. Est. Value—$626.00. Disposition—Transferred to NARA | His Excellency Yoon Suk Yeol, President of the Republic of Korea | Non-acceptance would cause embarrassment to donor and U.S.
The Honorable Joseph R. Biden Jr., President of the United States | Bottle of Sandeman Porto Vintage 1942. Rec'd—7/11/2024. Est. Value—$480.00. Disposition—Perishable items disposed of pursuant to USSS policies (Porto Vintage) | His Excellency Luis Montenegro, Prime Minister of the Portuguese Republic | Non-acceptance would cause embarrassment to donor and U.S.
The Honorable Joseph R. Biden Jr., President of the United States | 10 Euro—50 Aniversario De Picasso Coin Set. Rec'd—7/11/2024. Est. Value—$580.00. Disposition—Pending Transfer to NARA | The Honorable Pedro Sánchez Pérez-Castejón, President of the Kingdom of Spain | Non-acceptance would cause embarrassment to donor and U.S.
The Honorable Joseph R. Biden Jr., President of the United States | Travel bag, leather, black, by Nathan Baume. Rec'd—7/11/2024. Est. Value—$914.00. Disposition—Transferred to NARA | His Excellency Alexander De Croo, Prime Minister of the Kingdom of Belgium | Non-acceptance would cause embarrassment to donor and U.S.
The Honorable Joseph R. Biden Jr., President of the United States | Cookbook, “Qualivita Atlas” Book, Giulio Ferrari Reserva Sparkling Wine, Aviator Sunglasses with G7 Inscription, Solara Bracelet, Talarico Cufflinks, Customized Pen, Customized Nutella Jar, Venini Vase. Rec'd—7/11/2024. Est. Value—$2,512.00. Disposition—Transferred to NARA (Books, Sunglasses, Bracelet, Cufflinks, Pen, Nutella Jar, Vase); Perishable items disposed of pursuant to USSS policies (Wine) | Her Excellency Giorgia Meloni, President of the Italian Republic | Non-acceptance would cause embarrassment to donor and U.S.
The Honorable Joseph R. Biden Jr., President of the United States | Sterling Silver Metal Train Set. Rec'd—7/16/2024. Est. Value—$7,750.00. Disposition—Transferred to NARA | His Excellency Narendra Modi, Prime Minister of the Republic of India | Non-acceptance would cause embarrassment to donor and U.S.
The Honorable Joseph R. Biden Jr., President of the United States | Road Bike and Bag, 2 Crates of Dates. Rec'd—9/23/2024. Est. Value—$7,089.00. Disposition—Transferred to NARA (Bike and Bag); Perishable items disposed of pursuant to USSS policies (Dates) | Sheikh Mohamed Bin Zayed Al Nahyan, President of the United Arab Emirates | Non-acceptance would cause embarrassment to donor and U.S.
The Honorable Joseph R. Biden Jr., President of the United States | Wood Statue. Rec'd—9/24/2024. Est. Value—$2,490.00. Disposition—Transferred to NARA | His Excellency Surangel S. Whipps Jr., President of the Republic of Palau | Non-acceptance would cause embarrassment to donor and U.S.
The Honorable Joseph R. Biden Jr., President of the United States | Multicolored Tapestry. Rec'd—9/26/2024. Est. Value—$549.00. Disposition—Transferred to NARA | His Excellency Volodymyr Zelenskyy, President of Ukraine | Non-acceptance would cause embarrassment to donor and U.S.
The Honorable Joseph R. Biden Jr., President of the United States | Framed Cable regarding the visit of then Senator Biden to Germany in 1980, “Heinrich Boll Irish Journal” Book. Rec'd—10/18/2024. Est. Value—$1,570.00. Disposition—Transferred to NARA | His Excellency Frank-Walter Steinmeier, President of the Federal Republic of Germany | Non-acceptance would cause embarrassment to donor and U.S.
The Honorable Joseph R. Biden Jr., President of the United States | Javanese Kris (Dagger). Rec'd—11/12/2024. Est. Value—$780.00. Disposition—Transferred to NARA | His Excellency Prabowo Subianto, President of the Republic of Indonesia | Non-acceptance would cause embarrassment to donor and U.S.
The Honorable Joseph R. Biden Jr., President of the United States | 1908 1 Libra Gold Coin. Rec'd—11/14/2024. Est. Value—$590.00. Disposition—Transferred to NARA | His Excellency Gustavo Adrianzén, Prime Minister of the Republic of Peru | Non-acceptance would cause embarrassment to donor and U.S.
The Honorable Joseph R. Biden Jr., President of the United States | Celadon Plum Vase. Rec'd—11/15/2024. Est. Value—$1,200.00. Disposition—Transferred to NARA | His Excellency Xi Jinping, President of the People's Republic of China | Non-acceptance would cause embarrassment to donor and U.S.
The Honorable Joseph R. Biden Jr., President of the United States | Carnival Themed Tapestry by Joana Pinto. Rec'd—12/1/2024. Est. Value—$590.00. Disposition—Transferred to NARA | His Excellency José Ulisses Correia e Silva, Prime Minister of the Republic of Cabo Verde | Non-acceptance would cause embarrassment to donor and U.S.
The Honorable Joseph R. Biden Jr., President of the United States | Acrylic Painting Titled “Marimba” by Guizef. Rec'd—12/3/2024. Est. Value—$19,000.00. Disposition—Transferred to NARA | His Excellency João Manuel Gonçalves Lourenço, President of the Republic of Angola | Non-acceptance would cause embarrassment to donor and U.S.
The Honorable Joseph R. Biden Jr., President of the United States and Dr. Jill Biden | Hammered Brass Bowl, Dried Flowers Petals. Rec'd—2/6/2024. Est. Value—$598.98. Disposition—Transferred to NARA (Bowl); Perishable items disposed of pursuant to USSS policies (Flowers) | His Majesty Abdullah II Ibn Al Hussein and Queen Rania, King and Queen of the Hashemite Kingdom of Jordan | Non-acceptance would cause embarrassment to donor and U.S.
The Honorable Joseph R. Biden Jr., President of the United States and Dr. Jill Biden | Two Lacquerware Inscribed Cups and Saucers, Two Ballpoint Pens, Tea Caddy. Rec'd—5/29/2024. Est. Value—$2,806.00. Disposition—Transferred to NARA | His Excellency Fumio and Mrs. Yuko Kishida, Prime Minister and First Lady of Japan | Non-acceptance would cause embarrassment to donor and U.S.
The Honorable Joseph R. Biden Jr., President of the United States and Dr. Jill Biden | Elephant and Calf Sculpture, Lion Sculpture, Cheetah Sculpture, Rhino Sculpture, Wildebeest Sculpture, Assortment of Kenyan Tea, Two Paintings, Canvas Tote. Rec'd—6/3/2024. Est. Value—$4,285.00. Disposition—Transferred to NARA (Sculptures, Paintings, and Tote); Perishable items disposed of pursuant to USSS policies (Tea) | His Excellency William and Mrs. Rachel Ruto, President and First Lady of the Republic of Kenya | Non-acceptance would cause embarrassment to donor and U.S.
The Honorable Joseph R. Biden Jr., President of the United States and Dr. Jill Biden | Customized Olive Pens by SYGLA. Rec'd—10/15/2024. Est. Value—$676.00. Disposition—Transferred to NARA | Her Excellency Mariangela Zappia, Ambassador of the Italian Republic to the United States | Non-acceptance would cause embarrassment to donor and U.S.
Dr. Jill Biden | Vase, 2 Books, Basket Rec'd—6/11/2021. Est. Value—$567.00. Disposition—Personally Retained (Vase); Transferred to NARA (Books, Basket) | Her Royal Highness, The Duchess of Cambridge of the United Kingdom of Great Britain and Northern Ireland | Non-acceptance would cause embarrassment to donor and U.S.
Dr. Jill Biden | Sterling Silver Jewelry Set by Isabel López Joyeria, Gold Feather Brooch by Martalía Jewelry. Rec'd—2/26/2024. Est. Value—$760.00. Disposition—Personally Retained (Jewelry Set); Transferred to NARA (Brooch) | Mrs. Lavinia Valbonesi, First Lady of the Republic of Ecuador | Non-acceptance would cause embarrassment to donor and U.S.
Dr. Jill Biden | Romanian Honey, Cermic Plate, Painted Eggs, Decorative Chest, Romanian Blouse, Woven Textile. Rec'd—5/7/2024. Est. Value—$714.00. Disposition—Transferred to NARA (Chest, Blouse, and Textile); Perishable items disposed of pursuant to USSS policies (Honey and Eggs) | Mrs. Carmen Iohannis, First Lady of Romania | Non-acceptance would cause embarrassment to donor and U.S.
Dr. Jill Biden | Fleece Blanket, Woven Bag, Beaded Necklace, Sculpture, Canvas Tote, Headpiece, Wristband, Belt, Kenyan Tea. Rec'd—6/3/2024. Est. Value—$1,507.00. Disposition—Transferred to NARA (Blanket, Bag, Necklace, Sculpture, Headpiece, Wristband, and Belt); Perishable items disposed of pursuant to USSS policies (Tea) | Mrs. Rachel Ruto, First Lady of the Republic of Kenya | Non-acceptance would cause embarrassment to donor and U.S.
Dr. Jill Biden | Gold Netting Purse, Tote Bag, Paccari Chocolates, Flowers. Rec'd—6/7/2024. Est. Value—$596.00. Disposition—Transferred to NARA | Embassy of the Republic of Ecuador | Non-acceptance would cause embarrassment to donor and U.S.
Dr. Jill Biden | Sèvres Vase, Dior Bracelet. Rec'd—6/8/2024. Est. Value—$5,090.00. Disposition—Transferred to NARA (Vase); Purchased (Bracelet) | Mrs. Brigitte Macron, First Lady of the French Republic | Non-acceptance would cause embarrassment to donor and U.S.
Dr. Jill Biden | Vista Alegre Glass Bowl. Rec'd—7/11/2024. Est. Value—$552.00. Disposition—Transferred to NARA | His Excellency Luis Montenegro, Prime Minister of the Portuguese Republic | Non-acceptance would cause embarrassment to donor and U.S.
Dr. Jill Biden | Delvaux Leather Pouch. Rec'd—7/11/2024. Est. Value—$978.00. Disposition—Transferred to NARA | Mrs. Annik Penders, Spouse of the Prime Minister of the Kingdom of Belgium | Non-acceptance would cause embarrassment to donor and U.S.
Dr. Jill Biden | “Legendary Mermaid Melusina” by Serge Ecker 3D Statue. Rec'd—7/11/2024. Est. Value—$530.00. Disposition—Transferred to NARA | Mrs. Marjolijne Frieden, Spouse of the Prime Minister of the Grand Duchy of Luxembourg | Non-acceptance would cause embarrassment to donor and U.S.
Dr. Jill Biden | Freshwater Pearl in 14K Gold Brooch. Rec'd—9/25/2024. Est. Value—$775.00. Disposition—Transferred to NARA | Her Excellency Philippa Karsera Christodoulides, First Lady of the Republic of Cyprus | Non-acceptance would cause embarrassment to donor and U.S.
Dr. Jill Biden | Pashmina Shawl. Rec'd—10/21/2024. Est. Value—$2,969.00. Disposition—Transferred to NARA | His Excellency Narendra Modi, Prime Minister of the Republic of India | Non-acceptance would cause embarrassment to donor and U.S.
Dr. Jill Biden | Ormonde Jayne Perfume, 18K Gold Necklace with Diamonds. Rec'd—12/6/2024. Est. Value—$11,165.00. Disposition—Personally Retained (Perfume Bottle); Perishable items disposed of pursuant to USSS policies (Perfume); Transferred to NARA (Necklace) | Sheikh Khalifa Bin Hamad Al Thani and Sheikha Fatima Bint Nasser Bin Hassan Al Thani, Emir and Spouse of the State of Qatar | Non-acceptance would cause embarrassment to donor and U.S.
Dr. Jill Biden | Al Jassasiya Abaya. Rec'd—12/6/2024. Est. Value—$1,425.00. Disposition—Transferred to NARA | Her Highness Sheikha Moza Bint Nasser Al-Missned of the State of Qatar | Non-acceptance would cause embarrassment to donor and U.S.
The Honorable Jacob Sullivan, Assistant to the President for National Security Affairs | Two Wine Glasses. Rec'd—3/1/2024. Est. Value—$704.00. Disposition—Transferred to GSA | Mr. Cho Tae-Yong, National Security Advisor of the Republic of Korea | Non-acceptance would cause embarrassment to donor and U.S.
The Honorable Jacob Sullivan, Assistant to the President for National Security Affairs | Kashmir Pashmina Scarf with Box. Rec'd—8/23/2024. Est. Value—$599.00. Disposition—Transferred to GSA | His Excellency Ajit Doval, National Security Advisor of the Republic of India | Non-acceptance would cause embarrassment to donor and U.S.
The Honorable Jeffrey Zients, Assistant to the President and Chief of Staff | Decorative Pot and Stand. Rec'd—1/24/2024. Est. Value—$796.00. Disposition—Transferred to GSA | Embassy of the People's Republic of China | Non-acceptance would cause embarrassment to donor and U.S.
The Honorable Arati Prabhkar, Assistant to the President and Director of Office of Science and Technology Policy | Plate, Commemorative, Ceramic, Blue with Glittery Border, by Mr. IWAI Jun from Sendai. Rec'd—6/12/2023. Est. Value—$1,900.00. Disposition—Transferred to GSA | Ms. Kori Kazuko, Mayor of Sendai, Japan | Non-acceptance would cause embarrassment to donor and U.S.

Agency: The Executive Office of the Vice President
[Report of Tangible Gifts Furnished by the Executive Office of the Vice President]
Name and title of person accepting the gift on behalf of the U.S. Government | Gift. date of acceptance on behalf of the U.S. Government, estimated value, current disposition or location | Identity of foreign donor and government | Circumstances justifying acceptance
The Honorable Kamala D. Harris, Vice President of the United States | “Above Two Seas” Book and a William & Son Clock. Rec'd—3/4/2022. Est. Value—$1,755.00. Disposition—Transferred to NARA | His Royal Highness Salman bin Hamad bin Isa Al Khalifa, Crown Prince and First Deputy Prime Minister of the Kingdom of Bahrain | Non-acceptance would cause embarrassment to donor and U.S.
The Honorable Kamala D. Harris, Vice President of the United States | Decorative Ceramic Bowl. Rec'd—4/26/2023. Est. Value—$1,440.00. Disposition—Transferred to NARA | Mrs. Kim Keon Hee, First Lady of the Republic of Korea | Non-acceptance would cause embarrassment to donor and U.S.
The Honorable Kamala D. Harris, Vice President of the United States | Yellow Porcelain Vase. Rec'd—1/21/2024. Est. Value—$980.00. Disposition—Transferred to NARA | Embassy of the People's Republic of China | Non-acceptance would cause embarrassment to donor and U.S.
The Honorable Kamala D. Harris, Vice President of the United States | Brass Box and Bowl. Rec'd—2/6/2024. Est. Value—$540.00. Disposition—Transferred to NARA | His Majesty King Abdullah II ibn Al Hussein, King of the Hashemite Kingdom of Jordan | Non-acceptance would cause embarrassment to donor and U.S.
The Honorable Kamala D. Harris, Vice President of the United States | Wooden Vanity Set. Rec'd—2/16/2024. Est. Value—$545.00. Disposition—Transferred to NARA | His Majesty King Abdullah II ibn Al Hussein, King of the Hashemite Kingdom of Jordan | Non-acceptance would cause embarrassment to donor and U.S.
The Honorable Kamala D. Harris, Vice President of the United States | Painting and Framed Artifact. Rec'd—6/15/2024. Est. Value—$1,270.00. Disposition—Transferred to NARA | His Excellency Volodymyr Zelenskyy, President of Ukraine | Non-acceptance would cause embarrassment to donor and U.S.
The Honorable Kamala D. Harris, Vice President of the United States | Woven Batik Shawl and Woven Batik Body Wrap. Rec'd—6/21/2024. Est. Value—$531.00. Disposition—Transferred to NARA | Mrs. Anak Agung Ayu Manik Mulyaheni, Spouse of the Minister of Investment and Downstream of the Republic of Indonesia | Non-acceptance would cause embarrassment to donor and U.S.
The Honorable Kamala D. Harris, Vice President of the United States | Dates and Assortment of Spices, Decorative Rug, Measuring Cooking Utensils, Book “Foraging: Food Knowledge and Environmental Imaginaries in the UAE's Landscape”, 2 Copies of Book “Fatima Bint Mohamed Bin Zayed Initiative”, and Teacups. Rec'd—9/23/2024. Est. Value—$2,633.44. Disposition—Perishable items disposed of pursuant to USSS policies (Box of Dates and Assortment of Spices); Transferred to NARA | His Highness Sheikh Mohamed bin Zayed Al Nahyan, President of the United Arab Emirates | Non-acceptance would cause embarrassment to donor and U.S.
The Honorable Kamala D. Harris, Vice President of the United States | Lord Krishna Raas Leela Silver Box. Rec'd—10/18/2024. Est. Value—$1,330.00. Disposition—Transferred to NARA | His Excellency Narendra Modi, Prime Minister of the Republic of India | Non-acceptance would cause embarrassment to donor and U.S.
The Honorable Kamala D. Harris, Vice President of the United States | Painting “Creation”. Rec'd—10/25/2024. Est. Value—$1,460.00. Disposition—Transferred to NARA | His Excellency Volodymyr Zelenskyy, President of Ukraine | Non-acceptance would cause embarrassment to donor and U.S.
The Honorable Kamala D. Harris, Vice President of the United States and Mr. Douglas Emhoff | “President's Trip to Washington” 2 Books. Rec'd—8/10/2023. Est. Value—$700.00. Disposition—Transferred to NARA | His Excellency Cho Hyun-dong, Ambassador of the Republic of Korea to the United States | Non-acceptance would cause embarrassment to donor and U.S.
Mr. Douglas Emhoff | Cufflinks, Tie Holder, and Large Kente Blanket. Rec'd—3/28/2023. Est. Value—$565.00. Disposition—Transferred to NARA | His Excellency Nana Akufo-Addo, President of the Republic of Ghana | Non-acceptance would cause embarrassment to donor and U.S.
Mr. Douglas Emhoff | Cufflinks. Rec'd—10/18/2024. Est. Value—$585.65. Disposition—Transferred to NARA | His Excellency Narendra Modi, Prime Minister of the Republic of India |

Agency: Department of State
[Report of Tangible Gifts Furnished by the Department of State]
Name and title of person accepting the gift on behalf of the U.S. Government | Gift. date of acceptance on behalf of the U.S. Government, estimated value, current disposition or location | Identity of foreign donor and government | Circumstances justifying acceptance
The Honorable Antony J. Blinken, Secretary of State | Black Lacquer and Sterling Silver Cufflinks. Rec'd—4/9/2024. Est. Value—$800. Disposition—Transferred to GSA | His Excellency Kishida Fumio, Prime Minister of Japan | Non-acceptance would cause embarrassment to donor and U.S.
The Honorable Antony J. Blinken, Secretary of State | Gold coin. Rec'd—6/15/2024. Est. Value—$680.24. Disposition—Transferred to GSA | Government of the Italian Republic, Group of Seven (G7) | Non-acceptance would cause embarrassment to donor and U.S.
The Honorable Antony J. Blinken, Secretary of State | Fabric Art by Adriana Varejão. Rec'd—11/17/2024. Est. Value—$790.00. Disposition—Transferred to GSA | His Excellency Luiz Inácio Lula da Silva, President of the Federative Republic of Brazil | Non-acceptance would cause embarrassment to donor and U.S.
Sarah-Ann Lynch, United States Ambassador to the Cooperative Republic of Guyana | Two thin Gold Bangle Bracelets and a Pearl Drop Necklace. Rec'd—9/12/2023. Est. Value—$1,198. Disposition—Transferred to GSA | Priya Manickchand, Minister of Education of the Cooperative Republic of Guyana | Non-acceptance would cause embarrassment to donor and U.S.
Alina L. Romanowski, United States Ambassador to the Republic of Iraq | Gold Bracelet. Rec'd—2/22/2024. Est. Value—$740.65. Disposition—Transferred to GSA | His Excellency Qassim al-Aaraji, National Security Advisor of the Republic of Iraq | Non-acceptance would cause embarrassment to donor and U.S.
Marc R. Stanley, United States Ambassador to the Argentine Republic | “El Grito de Guaja” Painting and “Rosario Vera Peñaloza” Painting. Rec'd—5/9/2024. Est. Value—$1,000. Disposition—Transferred to GSA | His Excellency Ricardo Quintela, Governor of the Province of La Rioja of the Argentine Republic | Non-acceptance would cause embarrassment to donor and U.S.
Jeremy Berndt, Chargé d'Affaires of the United States Embassy to the State of Libya | 125 ML Men's Perfume and Rolex, 41mm Oystersteel. Rec'd—5/19/2024. Est. Value—$8,380.00. Disposition—Transferred to GSA | Saddam Khalifa Abu El-kacem Omar, Staff Major General of the Army of the State of Libya | Non-acceptance would cause embarrassment to donor and U.S.
Meghan Gregonis, Consul General, Dubai, of the United States Embassy to United Arab Emirates | 2 pieces—Natural Pearls. Rec'd—6/27/2024. Est. Value—$600.00. Disposition—Transferred to GSA | His Highness Sheikh Saud bin Saqr Al Qasimi, Ruler of Ras Al Khaimah of the United Arab Emirates | Non-acceptance would cause embarrassment to donor and U.S.
Elizabeth Kennedy Trudeau, Deputy Chief of Mission, United States Mission to the Republic of Iraq | Perfume. Rec'd—10/16/2024. Est. Value—$533.00. Disposition—Transferred to GSA | Sheik Akram Zanganah, Advisor to the Prime Minister of the Republic of Iraq | Non-acceptance would cause embarrassment to donor and U.S.
Alina L. Romanowski, United States Ambassador to the Republic of Iraq | Perfume. Rec'd—10/16/2024. Est. Value—$549.91. Disposition—Transferred to GSA | Sheik Akram Zanganah, Advisor to the Prime Minister of the Republic of Iraq | Non-acceptance would cause embarrassment to donor and U.S.

Agency: Central Intelligence Agency
[Report of Tangible Gifts and Gifts of Travel Furnished by the Central Intelligence Agency]
Name and title of person accepting the gift on behalf of the U.S. Government | Gift. date of acceptance on behalf of the U.S. Government, estimated value, current disposition or location | Identity of foreign donor and government | Circumstances justifying acceptance
The Honorable William J. Burns, Director, Central Intelligence Agency | Korean Folk Art Painting. Rec'd—2/29/2024. Est. Value—$875.00. Disposition—Mission Official Use | 5 U.S.C. 7342(f)(4) | Non-acceptance would cause embarrassment to donor and U.S.
The Honorable William J. Burns, Director, Central Intelligence Agency | Horse Saddle for Yermek Sagimbayev. Rec'd—4/17/2024. Est. Value—$3,000.00. Disposition—Mission Official Use | 5 U.S.C. 7342(f)(4) | Non-acceptance would cause embarrassment to donor and U.S.
The Honorable William J. Burns, Director, Central Intelligence Agency | El Dorado Demerara Rum, Challenge Coin, and Pens. Rec'd—3/19/2024. Est. Value—$720.00. Disposition—Destroy (pending) | 5 U.S.C. 7342(f)(4) | Non-acceptance would cause embarrassment to donor and U.S.
The Honorable William J. Burns, Director, Central Intelligence Agency | DASSAI Beyond and Juyondai Liquor. Rec'd—11/22/2024. Est. Value—$600.00. Disposition—Destroy (pending) | 5 U.S.C. 7342(f)(4) | Non-acceptance would cause embarrassment to donor and U.S.
The Honorable William J. Burns, Director, Central Intelligence Agency | Silver Napkin Rings and Amouage Cologne. Rec'd—10/24/2024. Est. Value—$500.00. Disposition—Destroy (pending) | 5 U.S.C. 7342(f)(4) | Non-acceptance would cause embarrassment to donor and U.S.
The Honorable William J. Burns, Director, Central Intelligence Agency | Gold Noah's Arc Coin, Coin, and 3 Small Bourbons. Rec'd—9/9/2024. Est. Value—$685.00. Disposition—Destroy (pending) | 5 U.S.C. 7342(f)(4) | Non-acceptance would cause embarrassment to donor and U.S.
The Honorable William J. Burns, Director, Central Intelligence Agency | Ararat Aged 30 Year Brandy with Case. Rec'd—9/30/2024. Est. Value—$800.00. Disposition—Destroy (pending) | 5 U.S.C. 7342(f)(4) | Non-acceptance would cause embarrassment to donor and U.S.
The Honorable David S. Cohen, Deputy Director, Central Intelligence Agency | Rug—Navy Blue w/Gold Accents (person riding horse). Rec'd—5/19/2024. Est. Value—$1,000.00. Disposition—Transfer to GSA (pending) | 5 U.S.C. 7342(f)(4) | Non-acceptance would cause embarrassment to donor and U.S.
The Honorable David S. Cohen, Deputy Director, Central Intelligence Agency | Rug—Gold/Navy Blue with Pattern of Many Squares. Rec'd—5/19/2024. Est. Value—$1,000.00 Disposition—Transfer to GSA (pending) | 5 U.S.C. 7342(f)(4) | Non-acceptance would cause embarrassment to donor and U.S.
The Honorable David S. Cohen, Deputy Director, Central Intelligence Agency | Sterling Silver Footed Way Rim Pedestal Bowl Plate (silver/gold). Rec'd—5/21/2024. Est. Value—$550.00. Disposition—Transfer to GSA (pending) | 5 U.S.C. 7342(f)(4) | Non-acceptance would cause embarrassment to donor and U.S.
An Agency Employee | Romeo Y Julieta Box of 20 Dianas Cigars. Rec'd—6/15/2024. Est. Value—$1,400.00. Disposition—Destroyed | 5 U.S.C. 7342(f)(4) | Non-acceptance would cause embarrassment to donor and U.S.
An Agency Employee | Amouage Fragrance. Rec'd—4/23/2024. Est. Value—$760.00. Disposition—Destroyed | 5 U.S.C. 7342(f)(4) | Non-acceptance would cause embarrassment to donor and U.S.
An Agency Employee | Mont Blanc Pen. Rec'd—7/12/2024. Est. Value—$770.00. Disposition—Destroyed | 5 U.S.C. 7342(f)(4) | Non-acceptance would cause embarrassment to donor and U.S.
An Agency Employee | Customized GIP Bulgari Octo Desk Clock. Rec'd—2/2/2024. Est. Value—$1,242.00. Disposition—Mission Official Use | 5 U.S.C. 7342(f)(4) | Non-acceptance would cause embarrassment to donor and U.S.
An Agency Employee | Lodging—Two Nights at Hotel. Rec'd—2/14/2024. Est. Value—$1,070.00. Disposition—Official Use | 5 U.S.C. 7342(f)(4) | Non-acceptance would cause embarrassment to donor and U.S.
An Agency Employee | Lodging—One Night at Hotel. Rec'd—2/14/2024. Est. Value—$495.00. Disposition—Official Use | 5 U.S.C. 7342(f)(4) | Non-acceptance would cause embarrassment to donor and U.S.
An Agency Employee | Lodging—One Night at Hotel. Rec'd—2/14/2024. Est. Value—$495.00. Disposition—Official Use | 5 U.S.C. 7342(f)(4) | Non-acceptance would cause embarrassment to donor and U.S.
An Agency Employee | Lodging—Two Nights at Hotel. Rec'd—3/22/2024. Est. Value—$578.00. Disposition—Official Use | 5 U.S.C. 7342(f)(4) | Non-acceptance would cause embarrassment to donor and U.S.
An Agency Employee | Lodging—Two Nights at Hotel. Rec'd—3/22/2024. Est. Value—$578.00. Disposition—Official Use | 5 U.S.C. 7342(f)(4) | Non-acceptance would cause embarrassment to donor and U.S.
An Agency Employee | Lodging—Two Nights at Hotel. Rec'd—5/5/2024. Est. Value—$578.00. Disposition—Official Use | 5 U.S.C. 7342(f)(4) | Non-acceptance would cause embarrassment to donor and U.S.
An Agency Employee | Lodging—Two Nights at Hotel. Rec'd—5/5/2024. Est. Value—$578.00. Disposition—Official Use | 5 U.S.C. 7342(f)(4) | Non-acceptance would cause embarrassment to donor and U.S.
An Agency Employee | Firearm, Handgun, FN-57 w/Two Magazines, Lanyard, and Soft Case. Rec'd—6/14/2024. Est. Value—$875.00. Disposition—Buy Back (pending) | 5 U.S.C. 7342(f)(4) | Non-acceptance would cause embarrassment to donor and U.S.
An Agency Employee | Zen Diamond Necklace. Rec'd—7/25/2024. Est. Value—$1,050.00. Disposition—Official Use | 5 U.S.C. 7342(f)(4) | Non-acceptance would cause embarrassment to donor and U.S.
An Agency Employee | Hugo Boss Leather Briefcase. Rec'd—2/7/2024. Est. Value—$499.00. Disposition—Destroyed | 5 U.S.C. 7342(f)(4) | Non-acceptance would cause embarrassment to donor and U.S.
An Agency Employee | Bowl. Rec'd—1/15/2024. Est. Value—$2,104.54. Disposition—Mission Official Use | 5 U.S.C. 7342(f)(4) | Non-acceptance would cause embarrassment to donor and U.S.
An Agency Employee | Hermes Scarf. Rec'd—2/19/2024. Est. Value—$1,350.00. Disposition—Destroyed | 5 U.S.C. 7342(f)(4) | Non-acceptance would cause embarrassment to donor and U.S.
An Agency Employee | Tissot Wristwatch, Alligator Skin Band, Three Hands. Rec'd—6/30/2024. Est. Value—$625.00. Disposition—Destroyed | 5 U.S.C. 7342(f)(4) | Non-acceptance would cause embarrassment to donor and U.S.
An Agency Employee | Cartier Ballpoint Pen. Rec'd—7/16/2024. Est. Value—$550.00. Disposition—Transferred to GSA | 5 U.S.C. 7342(f)(4) | Non-acceptance would cause embarrassment to donor and U.S.
An Agency Employee | iPad Pro 12.9″ Display with 512GB. Rec'd—1/11/2024. Est. Value—$1,399.00. Disposition—Destroyed | 5 U.S.C. 7342(f)(4) | Non-acceptance would cause embarrassment to donor and U.S.
An Agency Employee | Watch with Insignia. Rec'd—2/21/2024. Est. Value—$520.00. Disposition—Destroyed | 5 U.S.C. 7342(f)(4) | Non-acceptance would cause embarrassment to donor and U.S.
An Agency Employee | Cartier Tank Must XL Stainless Steel Automatic Wristwatch. Rec'd—8/14/2024. Est. Value—$4,000.00. Disposition—Pending Buy Back (pending) | 5 U.S.C. 7342(f)(4) | Non-acceptance would cause embarrassment to donor and U.S.
An Agency Employee | Gift Card—AQVA Spa Rakvere. Rec'd—12/20/2024. Est. Value—$622.97. Disposition—Buy Back (pending) | 5 U.S.C. 7342(f)(4) | Non-acceptance would cause embarrassment to donor and U.S.
An Agency Employee | Carolina Herrera Royal Crossbody Handbag. Rec'd—7/10/2024. Est. Value—$495.00. Disposition—Transfer to GSA (pending) | 5 U.S.C. 7342(f)(4) | Non-acceptance would cause embarrassment to donor and U.S.
An Agency Employee | $15,000 Cash. Rec'd—6/5/2024. Est. Value—$15,000.00. Disposition—Returned to Federal Reserve | 5 U.S.C. 7342(f)(4) | Non-acceptance would cause embarrassment to donor and U.S.
An Agency Employee | Bottle of French Wine, Chateau Lafite Rothschild. Rec'd—1/17/2024. Est. Value—$1,200.00. Disposition—Official Use | 5 U.S.C. 7342(f)(4) | Non-acceptance would cause embarrassment to donor and U.S.
An Agency Employee | Roamer of Switzerland Watch. Rec'd—12/12/2024. Est. Value—$821.46. Disposition—Destroy (pending) | 5 U.S.C. 7342(f)(4) | Non-acceptance would cause embarrassment to donor and U.S.
An Agency Employee | Emirates Airlines Skywards Frequent Flyer Program “Gold” Membership. Rec'd—8/20/2024. Est. Value—$499.00. Disposition—Destroyed | 5 U.S.C. 7342(f)(4) | Non-acceptance would cause embarrassment to donor and U.S.
An Agency Employee | Alcohol and Cashmere Scarf. Rec'd—12/6/2024. Est. Value—$717.00. Disposition—Destroyed | 5 U.S.C. 7342(f)(4) | Non-acceptance would cause embarrassment to donor and U.S.
An Agency Employee | Two One Day Tickets to Shams Suite. Rec'd—12/6/2024. Est. Value—$779.00. Disposition—Official Use | 5 U.S.C. 7342(f)(4) | Non-acceptance would cause embarrassment to donor and U.S.
An Agency Employee | Formula One Day Ticket; Teddy Swims Concert Ticket. Rec'd—12/5/2024. Est. Value—$2,392.40. Disposition—Official Use | 5 U.S.C. 7342(f)(4) | Non-acceptance would cause embarrassment to donor and U.S.
An Agency Employee | Hermes “Coaching Forever” Scarf and Box of 4 perfumes. Rec'd—8/23/2024. Est. Value—$900.00. Disposition—Scarf: Pending Transfer to GSA; Perfumes: Destroyed | 5 U.S.C. 7342(f)(4) | Non-acceptance would cause embarrassment to donor and U.S.
An Agency Employee | Box of Swedish/Cuban Cigars. Rec'd—11/4/2024. Est. Value—$543.00. Disposition—Official Use | 5 U.S.C. 7342(f)(4) | Non-acceptance would cause embarrassment to donor and U.S.
An Agency Employee | Vase, Decorated Robe, Hat, Dress, Mosaic in Display Case. Rec'd—11/1/2024. Est. Value—$1,025.00. Disposition—Mission Display | 5 U.S.C. 7342(f)(4) | Non-acceptance would cause embarrassment to donor and U.S.
An Agency Employee | Custom Wooden Backgammon Board. Rec'd—9/13/2024. Est. Value—$570.00. Disposition—Buy Back (pending) | 5 U.S.C. 7342(f)(4) | Non-acceptance would cause embarrassment to donor and U.S.
An Agency Employee | Cabot UK Special Boat Service Issue Dive Watch. Rec'd—7/4/2024. Est. Value—$774.57. Disposition—Buy Back (pending) | 5 U.S.C. 7342(f)(4) | Non-acceptance would cause embarrassment to donor and U.S.
An Agency Employee | Watch Tissot T-Race Chronograph. Rec'd—9/30/2024. Est. Value—$550.00. Disposition—Buy Back | 5 U.S.C. 7342(f)(4) | Non-acceptance would cause embarrassment to donor and U.S.
An Agency Employee | Custom Backgammon Board. Rec'd—8/1/2024. Est. Value—$520.00. Disposition—Buy Back (pending) | 5 U.S.C. 7342(f)(4) | Non-acceptance would cause embarrassment to donor and U.S.
An Agency Employee | Kleynod Watch. Rec'd—11/19/2024. Est. Value—$725.00. Disposition—Buy Back (pending) | 5 U.S.C. 7342(f)(4) | Non-acceptance would cause embarrassment to donor and U.S.
An Agency Employee | Gift Basket with Food, Alcohol, Candy, Watch, Tie and Wallet. Rec'd—12/17/2024. Est. Value—$600.00. Disposition—Destroy (pending) | 5 U.S.C. 7342(f)(4) | Non-acceptance would cause embarrassment to donor and U.S.
An Agency Employee | Cartier Handbag. Rec'd—7/1/2024. Est. Value—$2,800.00. Disposition—Transfer to GSA (pending) | 5 U.S.C. 7342(f)(4) | Non-acceptance would cause embarrassment to donor and U.S.
An Agency Employee | Bottle of Macallan Oscuro, Highland Single Malt Scotch Whiskey. Rec'd—11/4/2024. Est. Value—$2,000.00. Disposition—Official Use | 5 U.S.C. 7342(f)(4) | Non-acceptance would cause embarrassment to donor and U.S.
An Agency Employee | 3 gift baskets—Each Containing: A Bottle of Wine and an Assortment of Snacks/Food Items. Rec'd—12/8/2024. Est. Value—$6,000.00. Disposition—Destroy (pending) | 5 U.S.C. 7342(f)(4) | Non-acceptance would cause embarrassment to donor and U.S.
An Agency Employee | 3 Omega Wristwatches. Rec'd—8/1/2024. Est. Value—$22,500.00. Disposition—Destroy | 5 U.S.C. 7342(f)(4) | Non-acceptance would cause embarrassment to donor and U.S.

Agency: U.S. Commodity Futures Trading Commission (CFTC)
[Report of Tangible Gifts Furnished by the U.S. Commodity Futures Trading Commission]
Name and title of person accepting the gift on behalf of the U.S. Government | Gift. date of acceptance on behalf of the U.S. Government, estimated value, current disposition or location | Identity of foreign donor and government | Circumstances justifying acceptance
The Honorable Caroline D. Pham, Commissioner, Commodity Futures Trading Commission | Annual Meeting Registration Fee in Athens, Greece. Rec'd—5/27/2024. Est. Value—$2,350.00 | International Organization of Securities Commissions | Non-acceptance would cause embarrassment to donor and U.S.
The Honorable Kristin Johnson, Commissioner, Commodity Futures Trading Commission | Annual Meeting Registration Fee in Athens, Greece. Rec'd—5/27/2024. Est. Value—$2,350.00 | International Organization of Securities Commissions | Non-acceptance would cause embarrassment to donor and U.S.
The Honorable Kristin Johnson, Commissioner, Commodity Futures Trading Commission | Lodging at the Secretary General's Official Residence in Accra, Ghana. Rec'd—12/28/2024-1/4/2025 | His Excellency Wamkele Mene, Secretary General of the African Continental Free Trade Area | Non-acceptance would cause embarrassment to donor and U.S.

Agency: Defence Intelligence Agency (DIA)
[Report of Tangible Gifts Furnished by the Defense Intelligence Agency (DIA)]
Name and title of person accepting the gift on behalf of the U.S. Government | Gift. date of acceptance on behalf of the U.S. Government, estimated value, current disposition or location | Identity of foreign donor and government | Circumstances justifying acceptance
Christopher J. Almont, Senior Defense Intelligence Analyst for Egypt, Levant, and Iraq | Maurice LaCroiz AI 1018 Chronograph Men's Watch. Rec'd—12/11/2024. Est. Value—$1,800.00. Disposition—Pending Transfer to GSA | Defense Intelligence and Security Agency of the United Arab Emirates | Non-acceptance would cause embarrassment to donor and U.S.
Lieutenant General Jeffrey A. Kruse, United States Air Force, Director | Galle Art Brown Glass Lamp, Purple Sailboats in Brown Velvet Box; Wood Plaque with Enamel DIGD Seal and Engraved Plate in Black Wood Box. Rec'd—11/5/2024. Est. Value—$1,130.00. Disposition—Official Use in Accordance with 10 U.S.C. 2601 | His Excellency Major General Petru Baiceanu, General Directorate for Defense Intelligence of Romania | Non-acceptance would cause embarrassment to donor and U.S.
Commander Andrew J. Seator, American Legation United States Naval Attaché to Estonia | A Chow Sang Sang-brand gold “longevity” pendant, red string necklace, gift box, and bag. SKU: 5113741, S/N: DJC41FFA7; Model Number: 09300P. Rec'd—8/30/2024. Est. Value—$582.59. Disposition—Pending Transfer to GSA | Lieutenant Colonel Shi Zhenmin, Assistant Deputy Defense Attaché to Estonia of the People's Republic of China | Non-acceptance would cause embarrassment to donor and U.S.
Captain Matthew Ledridge, Navy Attaché | Movado Men's Series 800 Green Dial Stainless Steel Watch. Product Number: 2600136. Rec'd—8/12/2024. Est. Value—$1,395.00. Disposition—Pending Transfer to GSA | Qais Saleh Al Duwairi, Director-General of Dasman Diabetes Institute | Non-acceptance would cause embarrassment to donor and U.S.
Lieutenant General Jeffrey A. Kruse, United States Air Force, Director | Montblanc Sartorial black leather messenger bag, Montblanc horseshoe buckle black leather belt, stainless steel cufflinks with ray pattern and mother-of-pearl snowcap emblem, wooden plaque with UAE Ministry of Defense and Al-Hoson palace in silver and gold in brown leather case. Rec'd—5/30/2024. Est. Value—$2,300.00. Disposition—Transferred to GSA | Brigadier General Qais Rashed Harib Al Dhaheri, Director of Defense Intelligence Directorate of the United Arab Emirates | Non-acceptance would cause embarrassment to donor and U.S.
Captain Mark Imblum, Defense Attaché | Rolex Oyster Men's. Rec'd—5/17/2024. Est. Value—$6,400.00. Disposition—Pending Transfer to GSA | National Army of the State of Libya | Non-acceptance would cause embarrassment to donor and U.S.
Mr. Larry J Knight III, CCJ25, Deputy Chief | Movado Men's Watch. Rec'd—2/25/2024. Est. Value—$1,195.00. Disposition—Retained for Official use | Colonel Naser Almazrouei, Chief of Plans for the Defense Intelligence Directorate of the United Arab Emirates | Non-acceptance would cause embarrassment to donor and U.S.

Agency: United States Department of Agriculutre (USDA)
[Report of Tangible Gifts Furnished by the Department of Agriculture (USDA)]
Name and title of person accepting the gift on behalf of the U.S. Government | Gift. date of acceptance on behalf of the U.S. Government, estimated value, current disposition or location | Identity of foreign donor and government | Circumstances justifying acceptance
The Honorable Thomas Vilsack, Secretary of Agriculture | 18k Yellow Gold Pearl Necklace. Rec'd—9/24/2024. Value—$596.31. Disposition—Recipient Purchased Item from the General Services Administration | Her Excellency Mariam Bint Mohammed Saeed Hareb Almheiri, Head of the Office of International Affairs in the Presidential Court of the United Arab Emirates | Non-acceptance would cause embarrassment to donor and U.S.

Agency: Department of Defense
[Report of Tangible Gifts Furnished by the Department of the Defense]
Name and title of person accepting the gift on behalf of the U.S. Government | Gift. date of acceptance on behalf of the U.S. Government, estimated value, current disposition or location | Identity of foreign donor and government | Circumstances justifying acceptance
The Honorable Lloyd J. Austin, Secretary of Defense | Shiva Nataraja Bronze Statue. Rec'd—11/24/2022. Est. Value—$3,700.00. Disposition—Pending Transfer to GSA | His Excellency Rajnath Singh, Minister of Defense of the Republic of India | Non-acceptance would cause embarrassment to donor and U.S.
The Honorable Lloyd J. Austin, Secretary of Defense | Binoculars in Wood Presentation Box. Rec'd—12/19/2023. Est. Value—$2,950.00. Disposition—Pending Transfer to GSA | His Excellency Dr. Khalid Bin Mohammed Al Attiyah, Deputy Prime Minister and Minister of State for Defense Affairs of the State of Qatar | Non-acceptance would cause embarrassment to donor and U.S.
The Honorable Lloyd J. Austin, Secretary of Defense | Watercolor Painting. Rec'd—4/16/2024. Est. Value—$1,300.00. Disposition—Pending Transfer to GSA | His Excellency Mohammed Shia' Al Sudani, Prime Minister of the Republic of Iraq | Non-acceptance would cause embarrassment to donor and U.S.
The Honorable Lloyd J. Austin, Secretary of Defense | Aurora Fountain Pen and Ink Well in Presentation Box. Rec'd—5/7/2024. Est. Value—$1,130.00. Disposition—Pending Transfer to GSA | His Majesty King Abdullah II ibn Al Hussein, King of the Hashemite Kingdom of Jordan | Non-acceptance would cause embarrassment to donor and U.S.
The Honorable Lloyd J. Austin, Secretary of Defense | Two Vases. Rec'd—9/9/2024. Est. Value—$550.00. Disposition—Pending Transfer to GSA | His Excellency Phan Van Giang, Minister of National Defense of the Socialist Republic of Vietnam | Non-acceptance would cause embarrassment to donor and U.S.
The Honorable Lloyd J. Austin, Secretary of Defense | Necktie, Necktie Travel Case, Writing Set, and Cufflinks. Rec'd—10/18/2024. Est. Value—$4,050.00. Disposition—Pending Transfer to GSA | His Excellency Guido Crosetto, Minister of Defense of the Italian Republic | Non-acceptance would cause embarrassment to donor and U.S.
General Charles Q. Brown, Jr., Chairman of the Joint Chiefs of Staff | Framed Photo, Wooden Trident, Bottle of “A Gimm Gin”, and Two Shot Glasses. Rec'd—7/16/2024. Est. Value—$515.00. Disposition—Pending Transfer to GSA | His Excellency General Romeo S. Brawner, Jr., Chief of Staff of the Armed Forces of the Republic of the Philippines | Non-acceptance would cause embarrassment to donor and U.S.
General Charles Q. Brown, Jr., Chairman of the Joint Chiefs of Staff | Decorative Plate and Crystal Boat Figurine. Rec'd—8/25/2024. Est. Value—$540.00. Disposition—Pending Transfer to GSA | His Excellency Lt. General Ahmed Fathy Ibrahim Khalifa, Chief of Staff for the Armed Forces of the Arab Republic of Egypt | Non-acceptance would cause embarrassment to donor and U.S.
Mr. Daniel Shapiro, Deputy Assistant Secretary of Defense for Middle East | Briefcase with Silver Chain, Woodchips, Cartier Ballpoint Pen, and Agarwood Oil. Rec'd—2/3/2024. Est. Value—$690.00. Disposition—Pending Transfer to GSA | Khalid bin Salman Al Saud, Minister of Defense of the Kingdom of Saudi Arabia | Non-acceptance would cause embarrassment to donor and U.S.
Ms. Laura Cooper, Deputy Assistant Secretary of Defense for Russia, Ukraine & Eurasia | Plaque, Plate in Presentation Box, Bespoke Box, and Yardage. Rec'd—9/10/2024. Est. Value—$1,400.00. Disposition—Pending Transfer to GSA | His Excellency Maj. General Shukhrat Kholmukhammedov, First Deputy Minister of Defense and Chief of the General Staff of the Armed Forces of the Republic of Uzbekistan | Non-acceptance would cause embarrassment to donor and U.S.
Ms. Ely Ratner, Assistant Secretary of Defense for Indo-Pacific Security Affairs | Art Piece in Presentation Box. Rec'd—10/16/2024. Est. Value—$1,700.00. Disposition—Pending Transfer to GSA | Alex Po, Deputy Minister of National Defense of Taiwan | Non-acceptance would cause embarrassment to donor and U.S.
Mr. Jeffrey Kruse, Director, Defense Intelligence Agency | Montblanc Leather Messenger Bag, Belt, Cufflinks, and Plaque. Rec'd—5/30/2024. Est. Value—$2,300.00. Disposition—Pending Transfer to GSA | His Excellency Qais Dhahiri, Director of Defense Intelligence Agency of the United Arab Emirates | Non-acceptance would cause embarrassment to donor and U.S.
Mr. Jeffrey Kruse, Director, Defense Intelligence Agency | Plaque and Table Lamp. Rec'd—11/5/2024. Est. Value—$1,130.00. Disposition—Mission Official Use | His Excellency Major General Petru Baiceanu, General Directorate for Defense Intelligence of Romania | Non-acceptance would cause embarrassment to donor and U.S.
Ms. Kaitlyn Smithwick, SPOC Intelligence Analyst & Intelligence Exchange, Defense Intelligence Agency | Wristwatch in Presentation Box. Rec'd—6/6/2024. Est. Value—$1,225.00. Disposition—Pending Transfer to GSA | His Excellency Qais Dhahiri, Director of Defense Intelligence Agency of the United Arab Emirates | Non-acceptance would cause embarrassment to donor and U.S.
Dr. Raymond D. O'Toole, Jr., Acting Director, Operational Test and Evaluation | Model Military Tank. Rec'd—1/22/2024. Est. Value—$650.00. Disposition—Mission Official Use | Brigadier General Chris Davies, Head of International Communications & Engagement for the United Kingdom of Great Britain and Northern Ireland | Non-acceptance would cause embarrassment to donor and U.S.
Mr. Mike Miller, Acting Director, Defense Counterintelligence and Security Agency | Art Piece. Rec'd—8/14/2024. Est. Value—$540.00. Disposition—Pending Transfer to GSA | His Excellency Dr. Khaled Bin Hussain Al-Biyari, Assistant Minister of Defense for Executive Affairs of the Kingdom of Saudi Arabia | Non-acceptance would cause embarrassment to donor and U.S.
Ms. Milancy Harris, Acting Under Secretary of Defense for Intelligence and Security | Vase. Rec'd—9/3/2024. Est. Value—$480.00. Disposition—Pending Transfer to GSA | His Excellency Major General Petru Baiceanu, General Directorate for Defense Intelligence of Romania | Non-acceptance would cause embarrassment to donor and U.S.
The Honorable Christopher J. Lowman, Assistant Secretary of Defense for Sustainment | Three Plaques and a Fountain Pen. Rec'd—5/6/2024. Est Value—$1,085.00. Disposition—Mission Official Use | His Excellency Lt. General Luciano Portolano, Secretary General of Defense and National Armaments Director of the Italian Republic | Non-acceptance would cause embarrassment to donor and U.S.

Agency: Department of Health and Human Services
[Report of Tangible Gifts Furnished by the Department of Health and Human Services]
Name and title of person accepting the gift on behalf of the U.S. Government | Gift. date of acceptance on behalf of the U.S. Government, estimated value, current disposition or location | Identity of foreign donor and government | Circumstances justifying acceptance
Andrea Palm, Deputy Secretary | A car and driver during official travel to the Group of Seven (G7) Health Ministerial Meeting in Ancona Italy. Rec'd—10/9/2024-10/12/2024. Est. Value—$480 | Government of the Italian Republic | Non-acceptance would cause embarrassment to donor and U.S.
Andrea Palm, Deputy Secretary | Hotel stay during official travel to the Group of Seven (G7) Health Ministerial Meeting in Ancona Italy. Rec'd—10/9/2024-10/12/2024. Est. Value—$699.44 | Government of the Italian Republic | Non-acceptance would cause embarrassment to donor and U.S.

Agency: Department of the Treasury
[Report of Tangible Gifts Furnished by the Department of the Treasury]
Name and title of person accepting the gift on behalf of the U.S. Government | Gift. date of acceptance on behalf of the U.S. Government, estimated value, current disposition or location | Identity of foreign donor and government | Circumstances justifying acceptance
The Honorable Adewale Adeyemo, Deputy Secretary of the Treasury | Dark Red Presentation Box. Rec'd—Unknown. Est. Value—$729.25. Disposition—Pending Transfer to GSA | Ministry of Finance of the State of Qatar | Non-acceptance would cause embarrassment to donor and U.S.
Ms. Anna Morris, Acting Assistant Secretary for Terrorist Financing | Decorative Silk Cloth. Rec'd—9/20/2024. Est. Value—$707.51. Disposition—Pending Transfer to GSA | Public Prosecution Office of the State of Qatar | Non-acceptance would cause embarrassment to donor and U.S.
Ms. Leslie Stubbs, Sanctions Policy Analyst, Office of Foreign Assets Control | Reimbursement for Travel Expenses to the United Kingdom. Rec'd—1/17/2024-1/19/2024 | Mr. Samuel Godsland, Program Director of Wilton Park, Foreign Commonwealth and Development Office of the United Kingdom of Great Britain and Northern Ireland | Non-acceptance would cause embarrassment to donor and U.S.
Mr. Andrew Eberly-Howerton, Sanctions Investigator, Office of Foreign Assets Control | Reimbursement for Travel Expenses to Ottawa, Canada. Rec'd—3/25/2024-3/28/2024 | The Financial Transactions and Reports Analysis Centre of Canada | Non-acceptance would cause embarrassment to donor and U.S.
Ms. Jaclyn Cahan, Senior Advisor, Under Secretary Terrorism and Financial Intelligence | Ticket for Cyber United Kingdom Event. Rec'd—5/13/2024 | Christopher Agass, Head of International Delivery, Home Office of the United Kingdom of Great Britain and Northern Ireland | Non-acceptance would cause embarrassment to donor and U.S.
Mr. Gibran Rezavi, Senior Advisor to the Under Secretary, Terrorism and Financial Intelligence | Ticket for Cyber United Kingdom Event. Rec'd—5/13/2024 | Christopher Agass, Head of International Delivery, Home Office of the United Kingdom of Great Britain and Northern Ireland | Non-acceptance would cause embarrassment to donor and U.S.
Mr. Joseph Florino, Enforcement Officer, Office of Foreign Assets Control Crimes Enforcement Network | Lodging and Meals. Rec'd—9/8/2024 | Brigadier General Salvatore Russo, Finance Police of the Italian Republic | Non-acceptance would cause embarrassment to donor and U.S.
Ms. Kelsey Chapman, Global Investigative Specialist, Financial Crimes Enforcement Network | Reimbursement for Travel Expenses to Italy. Rec'd—9/8/2024-9/20/2024 | Finance Police of the Italian Republic | Non-acceptance would cause embarrassment to donor and U.S.
Mr. Brent Neiman, Assistant Secretary for International Finance | Reimbursement for Travel Expenses to Asia-Pacific Economic Coordination (APEC) Meeting. Rec'd—10/1/2024 | Government of the Republic of Peru | Non-acceptance would cause embarrassment to donor and U.S.
Mr. Daniel Hall, Supervisory International Economist | Reimbursement for Travel Expenses Thailand. Rec'd—5/1/2024 | Government of the Kingdom of Thailand | Non-acceptance would cause embarrassment to donor and U.S.

Agency: Environmental Protection Agency
[Report of Tangible Gifts Furnished by the Environmental Protection Agency]
Name and title of person accepting the gift on behalf of the U.S. Government | Gift. date of acceptance on behalf of the U.S. Government, estimated value, current disposition or location | Identity of foreign donor and government | Circumstances justifying acceptance
Arion Leahigh, Chemist, Health Effects Division, Office of Pesticide Programs, Office of Chemical Safety and Pollution Prevention | Reimbursement for Basic Travel Expenses Including Meals, Local Transportation While in Rome, Italy. Rec'd—9/9/2024-9/27/2024. Est. Value—$2,860.48 | Food and Agriculture Organization of the United Nations | Non-acceptance would cause embarrassment to donor and U.S.
Elizabeth Mendez, Biologist/Senior Science Advisor, Health Effects Division, Office of Pesticide Programs, Office of Chemical Safety and Pollution Prevention | Reimbursement For Basic Travel Expenses Including Meals, Local Transportation While in Rome, Italy. Rec'd—9/15/2024-9/27/2024. Est. Value—$1,700.00 | World Health Organization | Non-acceptance would cause embarrassment to donor and U.S.
Jason Fritz, Toxicologist, Laboratory Services & Applied Science Division, Region 8 | Reimbursement For Basic Travel Expenses Including Lodging, Local Transportation while in Lyon, France. Rec'd—6/8/2024-6/19/2024. Est. Value—$1,950.00 | International Agency for Research on Cancer Monographs Program | Non-acceptance would cause embarrassment to donor and U.S.
John Kosco, Environmental Engineer, Monitoring Assistance and Media Programs Division, Office of Compliance, Office of Enforcement and Compliance Assurance | Reimbursement For Basic Travel Expenses Including Common Carrier Transport, Local Transportation While in Belmopan City, Belize. Rec'd—9/14/2024-9/21/2024. Est. Value—$600.00 | Department of the Environment of Belize | Non-acceptance would cause embarrassment to donor and U.S.
Jonathon Giordano, Chemist, Health Effects Division, Office of Pesticide Programs, Office of Chemical Safety and Pollution Prevention | Reimbursement For Basic Travel Expenses Including Meals While in Rome, Italy. Rec'd—9/9/2024-10/2/2024. Est. Value—$2,000.00 | Food and Agriculture Organization of the United Nations | Non-acceptance would cause embarrassment to donor and U.S.
Mark Kasman, Director, Office of International Affairs, Office of International and Tribal Affairs | Reimbursement For Basic Travel Expenses Including Meals, Local Transportation While in Taipei, Taiwan. Rec'd—9/20/2024-9/26/2024. Est. Value—$556.00 | Ocean Affairs Council of Taiwan | Non-acceptance would cause embarrassment to donor and U.S.
Mary Gilbert, Principal Investigator, Public Health and Integrated Toxicology Division, Center for Public Health and Environmental Assessment, Office of Research and Development | Reimbursement For Basic Travel Expenses Including Lodging, Meals While in Tokyo, Japan. Rec'd—12/1/2024-12/14/2024. Est. Value—$1,396.00 | Food Chemical Safety of Japan | Non-acceptance would cause embarrassment to donor and U.S.
Michael Doherty, Chemist, Health Effects Division, Office of Pesticide Programs, Office of Chemical Safety and Pollution Prevention | Reimbursement For Basic Travel Expenses Including Meals, Local Transportation While in Rome, Italy. Rec'd—9/9/2024-10/4/2024. Est. Value—$2,100.00 | Food and Agriculture Organization of the United Nations | Non-acceptance would cause embarrassment to donor and U.S.
Michael Mendelsohn, Supervisory Biologist, Biopesticides and Pollution Prevention Division, Office of Pesticide Programs, Office of Chemical Safety and Pollution Prevention | Reimbursement For Basic Travel Expenses Including Lodging While in Rome, Italy. Rec'd—9/20/2024-9/25/2024. Est. Value—$750.00 | Commission on Genetic Resources for Food and Agriculture of the FAO (the Commission) | Non-acceptance would cause embarrassment to donor and U.S.
Richard Wormell, Acting Deputy Director, Mission Support Division, Office of Program Support, Office of Chemical Safety and Pollution Prevention | Reimbursement For Basic Travel Expenses Including Meals While in Rome, Italy. Rec'd—10/4/2024-10/12/2024. Est. Value—$1,100.00 | Food and Agriculture Organization of the United Nations | Non-acceptance would cause embarrassment to donor and U.S.
Timothy Epp, Associate General Counsel, National FOIA Office (NFO), Office of General Counsel (OGC) | Reimbursement for Basic Travel Expenses including Lodging, Meals, Local Transportation While in Nairobi, Kenya. Rec'd—2/23/2024-3/2/2024. Est. Value—$2,150.00 | United Nations Environment Program | Non-acceptance would cause embarrassment to donor and U.S.

Agency: Federal Mediation and Conciliation Service
[Report of Tangible Gifts Furnished by the Federal Mediation and Conciliation Service]
Name and title of person accepting the gift on behalf of the U.S. Government | Gift. date of acceptance on behalf of the U.S. Government, estimated value, current disposition or location | Identity of foreign donor and government | Circumstances justifying acceptance
Javier Ramirez, Deputy Director Field Operations | Lodging, ground/plane transportation, and food during time in the Republic of South Africa (Cape Town, Port Ggeberha, Johannesburg); Associated with attendance at International Industrial Relations Agencies (IIRA) meetings. Rec'd—11/24/2024-11/30/2024. Est. Value—$3,000.00 | Cameron Morajane, Director Commission for Conciliation, Mediation and Arbitration of the Republic of South Africa | Non-acceptance would cause embarrassment to donor and U.S.

Agency: National Transportation Safety Advisory Board
[Report of Tangible Gifts Furnished by the National Transportation Safety Advisory Board]
Name and title of person accepting the gift on behalf of the U.S. Government | Gift. date of acceptance on behalf of the U.S. Government, estimated value, current disposition or location | Identity of foreign donor and government | Circumstances justifying acceptance
The Honorable Jennifer L. Homendy, Chair of the National Transportation Safety Board (NTSB) | A framed, glass-enclosed Bedouin necklace representing traditional Saudi Arabian art. Rec'd—9/24/2024. Est. Value—$500.00. Disposition—Official Use | Captain Tai Alshammari, Chief Executive Officer of the National Transport Safety Center of the Kingdom of Saudi Arabia | Non-acceptance would cause embarrassment to donor and U.S.

Agency: U.S. House of Representatives
[Report of Gifts of Travel Furnished by the U.S. House of Representatives]
Name and title of person accepting the gift on behalf of the U.S. Government | Gift. date of acceptance on behalf of the U.S. Government, estimated value, current disposition or location | Identity of foreign donor and government | Circumstances justifying acceptance
Benjamin Cooper, Professional Staff Member, Foreign Affairs | Lodging for 8 nights, Per diem, Meals, Transportation. Rec'd—5/27/2022-6/5/2022 | Bernd Spangler, Division W1 4 International Exchange Programs of the Federal Republic of Germany | Non-acceptance would cause embarrassment to donor and U.S.
The Honorable Joseph Courtney, Member of Congress | Decoration for Distinguished Service—Fostering Australia's Relationship with the U.S. Rec'd—11/13/2024. Est. Value—$961.80 | Department of the Prime Minister and Cabinet; Hon. Kevin Rudd, Ambassador of the Commonwealth of Australia to the United States | Non-acceptance would cause embarrassment to donor and U.S.
The Honorable David Kustoff, Member of Congress | Lodging King David Hotel. Rec'd—7/2/2024-7/4/2024. Est. Value—$1,728.00 | Amir Ohana, Speaker of the Knesset of the State of Israel | Non-acceptance would cause embarrassment to donor and U.S.
The Honorable David Kustoff, Member of Congress | Transportation in Israel. Rec'd—7/2/2024-7/4/2024. Est. Value—$750.00 | Amir Ohana, Speaker of the Knesset of the State of Israel | Non-acceptance would cause embarrassment to donor and U.S.
The Honorable Ed Case, Member of Congress | Helicopter Transport in Jordan (approx. 90 mins). Rec'd—10/20/2024 | Brigadier General Mohammad Hiyasat, Royal Jordanian Air Force Commander of the Hashemite Kingdom of Jordan | Non-acceptance would cause embarrassment to donor and U.S.
The Honorable Mark Alford, Member of Congress | Helicopter Transport in Jordan (approx. 90 mins). Rec'd—10/20/2024 | Brigadier General Mohammad Hiyasat, Royal Jordanian Air Force Commander of the Hashemite Kingdom of Jordan | Non-acceptance would cause embarrassment to donor and U.S.
The Honorable Tom Cole, Member of Congress | Helicopter Transport in Jordan (approx. 90 mins). Rec'd—10/20/2024 | Brigadier General Mohammad Hiyasat, Royal Jordanian Air Force Commander of the Hashemite Kingdom of Jordan | Non-acceptance would cause embarrassment to donor and U.S.
The Honorable John H. Rutherford, Member of Congress | Helicopter Transport in Jordan (approx. 90 mins). Rec'd—10/20/2024 | Brigadier General Mohammad Hiyasat, Royal Jordanian Air Force Commander of the Hashemite Kingdom of Jordan | Non-acceptance would cause embarrassment to donor and U.S.
Erin Koldojeski, Professional Staff Member, Appropriations | Helicopter Transport in Jordan (approx. 90 mins). Rec'd—10/20/2024 | Brigadier General Mohammad Hiyasat, Royal Jordanian Air Force Commander of the Hashemite Kingdom of Jordan | Non-acceptance would cause embarrassment to donor and U.S.
Susan Adams, Professional Staff Member, Appropriations | Helicopter Transport in Jordan (approx. 90 mins). Rec'd—10/20/2024 | Brigadier General Mohammad Hiyasat, Royal Jordanian Air Force Commander of the Hashemite Kingdom of Jordan | Non-acceptance would cause embarrassment to donor and U.S.
David Bortnick, Professional Staff Member, Appropriations | Helicopter Transport in Jordan (approx. 90 mins). Rec'd—10/20/2024 | Brigadier General Mohammad Hiyasat, Royal Jordanian Air Force Commander of the Hashemite Kingdom of Jordan | Non-acceptance would cause embarrassment to donor and U.S.
Adam Sullivan, Deputy Staff Director, Appropriations | Helicopter Transport in Jordan (approx. 90 mins). Rec'd—10/20/2024 | Brigadier General Mohammad Hiyasat, Royal Jordanian Air Force Commander of the Hashemite Kingdom of Jordan | Non-acceptance would cause embarrassment to donor and U.S.
William Courtney, Chief of Staff, Honorable David Kustoff | Lodging King David Hotel. Rec'd—7/2/2024-7/4/2024. Est. Value—$1,728.00 | Amir Ohana, Speaker of the Knesset of the State of Israel | Non-acceptance would cause embarrassment to donor and U.S.
William Courtney, Chief of Staff, Honorable David Kustoff | Transportation in Israel. Rec'd—7/2/2024-7/4/2024. Est. Value—$750.00 | Amir Ohana, Speaker of the Knesset of the State of Israel | Non-acceptance would cause embarrassment to donor and U.S.
Katherine Jordan Dayer, Republican Cloakroom Director | Lodging, Per diem, Meals, and 7-day Transit Pass. Rec'd—6/29/2024-7/7/2024 | Sara Hennemann, Div Int4, International Exchange Programs, Bundestag of the Federal Republic of Germany | Non-acceptance would cause embarrassment to donor and U.S.
Anya Olsen, Counsel, Oversight | Lodging, Per diem, Meals, and 7-day Transit Pass. Rec'd—6/29/2024-7/7/2024 | Sara Hennemann, Div Int4, International Exchange Programs, Bundestag of the Federal Republic of Germany | Non-acceptance would cause embarrassment to donor and U.S.
Miles Lichtman, Democratic Staff Director, Coronavirus | Lodging, Per diem, Meals, and 7-day Transit Pass. Rec'd—6/29/2024-7/7/2024 | Sara Hennemann, Div Int4, International Exchange Programs, Bundestag of the Federal Republic of Germany | Non-acceptance would cause embarrassment to donor and U.S.
Omar Hossimo, Senior Policy Counsel | Lodging, Per diem, Meals, and 7-day Transit Pass. Rec'd—6/29/2024-7/7/2024 | Sara Hennemann, Div Int4, International Exchange Programs, Bundestag of the Federal Republic of Germany | Non-acceptance would cause embarrassment to donor and U.S.
Lori Ismail, Deputy Floor Director | Lodging, Per diem, Meals, and 7-day Transit Pass. Rec'd—6/29/2024-7/7/2024 | Sara Hennemann, Div Int4, International Exchange Programs, Bundestag of the Federal Republic of Germany | Non-acceptance would cause embarrassment to donor and U.S.
Amelia Litynski, Policy Advisor | Lodging, Per diem, Meals, and 7-day Transit Pass. Rec'd—6/29/2024-7/7/2024 | Sara Hennemann, Div Int4, International Exchange Programs, Bundestag of the Federal Republic of Germany | Non-acceptance would cause embarrassment to donor and U.S.
Chris Marklund, Deputy Staff Director | Lodging, Per diem, Meals, and 7-day Transit Pass. Rec'd—6/29/2024-7/7/2024 | Sara Hennemann, Div Int4, International Exchange Programs, Bundestag of the Federal Republic of Germany | Non-acceptance would cause embarrassment to donor and U.S.

Agency: U.S. Senate
[Report of Tangible Gifts Furnished by the U.S. Senate]
Name and title of person accepting the gift on behalf of the U.S. Government | Gift. date of acceptance on behalf of the U.S. Government, estimated value, current disposition or location | Identity of foreign donor and government | Circumstances justifying acceptance
The Honorable Sheldon Whitehouse, United States Senator | Ceremonial Pistol. Rec'd—07/04/2017. Est. Value—$500.00. Location—Secretary of the Senate | General Qamar Bajwa, Chief of the Army Staff of the Islamic Republic of Pakistan | Non-acceptance would cause embarrassment to donor and U.S.
The Honorable Gary C. Peters, United States Senator | Brass Clock on a Quartz Base. Rec'd—08/25/2023. Est. Value—$250.00. Location—Secretary of the Senate | His Excellency Mr. Shavkat Mirziyoyez, President of the Republic of Uzbekistan | Non-acceptance would cause embarrassment to donor and U.S.
The Honorable Steve Daines, United States Senator | Backpack. Rec'd—10/22/2023. Est. Value—$225.00. Location—Secretary of the Senate | Her Excellency Ms. Katalin Novak, President of Hungary | Non-acceptance would cause embarrassment to donor and U.S.
The Honorable Steve Daines, United States Senator | Porcelain Tea Set. Rec'd—10/22/2023. Est. Value—$1,420.00. Disposition—Purchase Completed Through GSA | Her Excellency Ms. Katalin Novak, President of Hungary | Non-acceptance would cause embarrassment to donor and U.S.
The Honorable Jack Reed, United States Senator | Wooden Box of Chocolates. Rec'd—10/21/2023. Est. Value—$200.00. Location—Secretary of the Senate | His Royal Highness Prince Mohammed bin Salman bin Abdulaziz Al Saud, Crown Prince and Prime Minister of the Kingdom of Saudi Arabia | Non-acceptance would cause embarrassment to donor and U.S.
The Honorable Jack Reed, United States Senator | Coffee Table Book. Rec'd—10/21/2023. Est. Value—$195.00. Location—Secretary of the Senate | Mr. Gerard Inzerillo, Group Chief Executive Officer, Diriyah Gate Development Authority of the Kingdom of Saudi Arabia | Non-acceptance would cause embarrassment to donor and U.S.
The Honorable Benjamin L. Cardin, United States Senator | Wooden box of chocolates. Rec'd—10/25/2023. Est. Value—$200.00. Location—Secretary of the Senate | His Royal Highness Prince Mohammed bin Salman bin Abdulaziz Al Saud, Crown Prince and Prime Minister of the Kingdom of Saudi Arabia | Non-acceptance would cause embarrassment to donor and U.S.
The Honorable Benjamin L. Cardin, United States Senator | Coffee Table Book. Rec'd—10/25/2023. Est. Value—$195.00. Location—Secretary of the Senate | Mr. Gerard Inzerillo, Group Chief Executive Officer, Diriyah Gate Development Authority of the Kingdom of Saudi Arabia | Non-acceptance would cause embarrassment to donor and U.S.
The Honorable Jacky Rosen, United States Senator | Hanukkah menorah. Rec'd—12/12/2023. Est. Value—$130.00. Disposition—Purchase Completed Through GSA | His Excellency Mr. Michael Herzog, Ambassador of the State of Israel to the United States | Non-acceptance would cause embarrassment to donor and U.S.
The Honorable Catherine Cortez Masto, United States Senator | Wooden bowl. Rec'd—03/14/2024. Est. Value—$150.00. Location—Secretary of the Senate | The Honorable Mark Brown, Prime Minister of the Cook Islands | Non-acceptance would cause embarrassment to donor and U.S.
The Honorable Catherine Cortez Masto, United States Senator | Seabed minerals polymetallic nodule and wooden display. Rec'd—03/14/2024. Est. Value—$150.00. Location—Secretary of the Senate | The Honorable Mark Brown, Prime Minister of the Cook Islands | Non-acceptance would cause embarrassment to donor and U.S.
The Honorable Steve Daines, United States Senator | Felt painting. Rec'd—05/08/2024. Est. Value—$350.00. Disposition—Purchase Completed Through GSA | His Excellency Mr. Sadyr Japarov, President of the Kyrgyz Republic | Non-acceptance would cause embarrassment to donor and U.S.
The Honorable Markwayne Mullin, United States Senator | Wagyu meat products. Rec'd—09/24/2024. Est. Value—$450.00. Location—Secretary of the Senate | His Majesty King Abdullah II ibn Al Hussein, King of the Hashemite Kingdom of Jordan | Non-acceptance would cause embarrassment to donor and U.S.
Eric Trager, Professional Staff Member, Senate Armed Services Committee | Perfume. Rec'd—11/08/2024. Est. Value—$550.00. Location—Secretary of the Senate | Director of Military Intelligence of the Kingdom of Bahrain | Non-acceptance would cause embarrassment to donor and U.S.
The Honorable Steve Daines, United States Senator | Decorative plate. Rec'd—10/01/2024. Est. Value—$200.00. Location—Secretary of the Senate | Mr. Abdulaziz Kamilov, Special Representative of the President of the Republic of Uzbekistan | Non-acceptance would cause embarrassment to donor and U.S.
The Honorable Steve Daines, United States Senator | Ceramic Tea Set. Rec'd—10/01/2024. Est. Value—$365.00. Location—Secretary of the Senate | His Excellency Mr. Bakhtiyor Saidov, Minister for Foreign Affairs of the Republic of Uzbekistan | Non-acceptance would cause embarrassment to donor and U.S.
The Honorable Steve Daines, United States Senator | Brass Tea Set. Rec'd—10/01/2024. Est. Value—$385.00. Location—Secretary of the Senate | His Excellency Mr. Shavkat Mirziyoyez, President of the Republic of Uzbekistan | Non-acceptance would cause embarrassment to donor and U.S.
The Honorable Steve Daines, United States Senator | Porcelain Tea Set. Rec'd—10/01/2024. Est. Value—$300.00. Location—Secretary of the Senate | His Excellency Mr. Shavkat Mirziyoyez, President of the Republic of Uzbekistan | Non-acceptance would cause embarrassment to donor and U.S.
The Honorable Lindsey Graham, United States Senator | Transportation within the Saudi Arabia via Government Aircraft and Motorpool. Rec'd—1/7/2024 | His Excellency Khalid bin Abdulrahman al-Eissa, President of the Royal Court of the Kingdom of Saudi Arabia | Non-acceptance would cause embarrassment to donor and U.S.
Ryan Geary, Deputy Legislative Assistant for Foreign Policy, Office of Senator Lindsey Graham | Transportation within the Saudi Arabia via Government Aircraft and Motorpool. Rec'd—1/7/2024 | His Excellency Khalid bin Abdulrahman al-Eissa, President of the Royal Court of the Kingdom of Saudi Arabia | Non-acceptance would cause embarrassment to donor and U.S.
Ryan Geary, Deputy Legislative Assistant for Foreign Policy, Office of Senator Lindsey Graham | Transportation within the Kingdom of Norway Via Aircraft and Motorpool. Rec'd—8/15/2024 | Norwegian Special Operations Command (NORSOCOM) of the Kingdom of Norway | Non-acceptance would cause embarrassment to donor and U.S.
The Honorable Lindsey Graham, United States Senator | Transportation within the Saudi Arabia Via Government Aircraft and Motorpool. Rec'd—10/9/2024 | His Excellency Khalid bin Abdulrahman al-Eissa, President of the Royal Court of the Kingdom of Saudi Arabia | Non-acceptance would cause embarrassment to donor and U.S.
Ryan Geary, Deputy Legislative Assistant for Foreign Policy, Office of Senator Lindsey Graham | Transportation within the Saudi Arabia Via Government Aircraft and Motorpool. Rec'd—10/9/2024 | His Excellency Khalid bin Abdulrahman al-Eissa, President of the Royal Court of the Kingdom of Saudi Arabia | Non-acceptance would cause embarrassment to donor and U.S.
Molly Carpenter, Legislative Director, Office of Senator Mike Crapo | Local Transportation within Germany, Lodging, and Meals. Rec'd—06/29/2024-07/07/2024 | Sara Hennemann, Division Int 4—International Exchange Programs of the Federal Republic of Germany | Non-acceptance would cause embarrassment to donor and U.S.
Erica Anhalt, Senior Legislative Assistant, Office of Senator Jeanne Shaheen | Local Transportation within Germany, Lodging, and Meals. Rec'd—06/29/2024-07/07/2024 | Sara Hennemann, Division Int 4—International Exchange Programs of the Federal Republic of Germany | Non-acceptance would cause embarrassment to donor and U.S.
Anthony James Hanagan, Senior Floor Assistant, Office of the Secretary for the Minority | Local Transportation within Germany, Lodging, and Meals. Rec'd—06/29/2024-07/07/2024 | Sara Hennemann, Division Int 4—International Exchange Programs of the Federal Republic of Germany | Non-acceptance would cause embarrassment to donor and U.S.

Agency: United States Agency for International Development (USAID)
[Report of Tangible Gifts Furnished by the United States Agency for International Development]
Name and title of person accepting the gift on behalf of the U.S. Government | Gift. date of acceptance on behalf of the U.S. Government, estimated value, current disposition or location | Identity of foreign donor and government | Circumstances justifying acceptance
An Agency Employee | To Participate as a Panelist at EMPRO (Programa Empresarias Progresando) Organized by INCAE in Costa Rica. Rec'd—11/22/2023-11/24/2023. Est. Value—$1,855.44 | INCAE Business School of the Republic of Guatemala | Non-acceptance would cause embarrassment to donor and U.S.
Robert McKenney, Migration Office Director | Travel by Charter to Xela and Izabal. Rec'd—1/11/2024. Est. Value—$500 | International Organization for Migration in the Republic of Guatemala | Non-acceptance would cause embarrassment to donor and U.S.
Jose Guillermo Lopez, Migration Office Deputy Director | Travel by Charter to Xela and Izabal. Rec'd—1/11/2024. Est. Value—$500 | International Organization for Migration in the Republic of Guatemala | Non-acceptance would cause embarrassment to donor and U.S.
Angelica Getahun, Deputy Migration Manager | Travel by Charter to Xela and Izabal. Rec'd—1/11/2024. Est. Value—$500 | International Organization for Migration in the Republic of Guatemala | Non-acceptance would cause embarrassment to donor and U.S.
Carolina Huitz, Senior Assistant USAID/Guatemala | Travel by Charter to Xela and Izabal. Rec'd—1/11/2024. Est. Value—$500 | International Organization for Migration in the Republic of Guatemala | Non-acceptance would cause embarrassment to donor and U.S.

[FR Doc. 2026-01805 Filed 1-28-26; 8:45 am]

BILLING CODE 4710-20-P